ENVIRONMENTAL PROTECTION AGENCY

[ER-FRL-8998-3]

Environmental Impacts Statements; Notice of Availability

Responsible Agency: Office of Federal Activities, General Information (202) 564-1399 or http://www.epa.gov/compliance/nepa/

Weekly receipt of Environmental Impact Statements

Filed 07/25/2011 Through 07/29/2011

Pursuant to 40 CFR 1506.9

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110245, Draft EIS, BLM, NV, Sloan Hills Competitive Mineral Material Sales Project, Proposing to Mine Limestone and Dolomite Minerals, Clark County, NV, Comment Period Ends: 12/02/2011, Contact: Shonna Dooman 702-515-5174.

EIS No. 20110246, Final EIS, DOE, TX, Texas Clean Energy Project, Construction and Operation of a Coal-Based Electric Power Generation and Chemicals Production Plant, Odessa, Ector County, TX, Wait Period Ends: 09/06/2011, Contact: Mark L. McKoy 1-800-432-8330.

EIS No. 20110247, Draft EIS, USFS, CA, Algoma Vegetation Management Project, Proposing to Protect and Promote Conditions of Late-Successional Forest Ecosystem on 5, 6000 Acres within the 14,780 Acre Unit of the Algoma Late-Successional Reserve (LSR), Shasta-Trinity National Forest, Siskiyou County, CA, Comment Period Ends: 09/19/2011, Contact: Emelia Barnum 530-926-9600.

EIS No. 20110248, Final EIS, USFS, SD, Pactola Project Area, Proposes to Implement Multiple Resource Management Actions, Mystic Ranger District, Black Hills National Forest, Pennington County, SD, Wait Period Ends: 09/06/2011, Contact: Katie Van Alstyne 605-343-1567.

Amended Notices

EIS No. 20110179, Draft EIS, USFS, CO, Ski Resort Peak 6 Project, To Better Accommodate Existing Daily Visitation Levels, Dillon Ranger District, White River National Forest, Summit County, CO, Comment Period Ends: 08/26/2011, Contact: Jan Cutts 970-262-3451.

Revision to FR Notice 06/10/2011: Extending Comment from 07/25/2011 to 08/26/2011.

Dated: August 2, 2011.
Cliff Rader,
Acting Director, NEPA Compliance Division, Office of Federal Activities.

[FR Doc. 2011-19917 Filed 8-4-11; 8:45 am]

BILLING CODE 6560-50-P